DEPARTMENT OF COMMERCE

National Oceanic and Atmospheric Administration

RIN 0648-XE555

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow a commercial fishing vessel to fish outside of the limited access scallop regulations in support of research conducted by the Coonamessett Farm Foundation. The exemptions are in support of gear research designed to reduce flatfish bycatch in the limited access general category scallop fishery.

Regulations under the Magnuson-Stevens Fishery Conservation and Management Act require publication of this notification to provide interested parties the opportunity to comment on applications for proposed Exempted Fishing Permits.

DATES: Comments must be received on or before April 20, 2016.

ADDRESSES: You may submit written comments by any of the following methods:

• Email: nmfs.gar.efp@noaa.gov. Include in the subject line “CFF LAGC Modified Sweep EFP.”

• Mail: John K. Bullard, Regional Administrator, NMFS, Greater Atlantic Regional Fisheries Office, 55 Great Republic Drive, Gloucester, MA 01930. Mark the outside of the envelope “Comments on CFF LAGC Modified Sweep EFP.”

• Fax: (978) 281-9135.

FOR FURTHER INFORMATION CONTACT: Shannah Jaburek, Fisheries Management Specialist, 978-282-8456.

SUPPLEMENTARY INFORMATION: Coonamesset Farm Foundation (CFF) has submitted a proposal titled “Determining the Impacts of Dredge Bag Modifications on Flatfish Bycatch in the LAGC Scallop Fishery,” that has been favorably reviewed and is pending final approval by NOAA's Grants Management Division under the 2016 Atlantic Sea Scallop Research Set-Aside (RSA) Program. The project would test a modified flounder cookie sweep on the outer bale bars of the scallop dredge that is used in the limited access general category (LAGC) scallop fishery and film fish-dredge interactions to monitor the effectiveness of the gear modification in reducing flatfish bycatch. CFF submitted a complete application for an EFP on March 14, 2016, to enable data collection activities during research trips. The EFP would allow one commercial fishing vessel to use gear that may be considered obstructed at 50 CFR 648.51(b)(4)(iii), waive scallop observer program requirements at § 648.11(g) in order allow a researcher with adequate room to sample catch on deck, and temporarily exempt the participating vessels from possession limits and minimum size requirements specified in 50 CFR part 648, subsections B and D through O, for sampling purposes only. Any fishing activity conducted outside the scope of the exempted fishing activity would be prohibited, including landing fish in excess of a possession limit or below the minimum size.

One vessel would conduct scallop dredging in June 2016-April 2017, on about 25 trips lasting approximately one day-at-sea (DAS) each for a project total of 25 DAS. The first trip would be comprised of shorter tow durations and serve as a calibration day for the underwater video equipment to determine the correct configuration on the dredge that would be used on each of the following trips. All other trips would complete approximately six tows per day for a maximum duration of 90 minutes at a tow speed of 4.2 knots. Trips would take place in the Southern New England Dredge Exemption Area where part of the LAGC fleet normally operates.

All tows would be conducted using a single 9-foot (2.74-m) dredge following an alternate paired tow strategy where a pair consists of one control and one experimental tow. Researchers would attach the two 6- to 7-foot (1.83- to 2.13-m) cookie sweeps to each of the outer bale bars using chain and shackles for the experimental tows and then remove them for the control tows. The cookie sweeps would be constructed of round rubber disks with no larger than a 3-inch (7.62-cm) diameter, and the attachment chains would be evenly spaced and varied in length to account for dredge position while being towed to ensure contact with the ocean bottom. Exemption from the dredge gear obstruction regulation would allow researchers to use the cookie sweep for the experimental tows.

Researchers would weigh all scallop catch in industry bushel baskets caught in both dredges and a one basket sub-sample from each dredge would be measured in 5-mm increments. Total weight of bycatch species and individual measurements to the nearest centimeter would also be obtained by the researcher. If the volume of the catch is large, subsampling protocols would be necessary. All bycatch would be returned to the sea as soon as practicable following data collection. Exemption from possession limit and minimum sizes would support catch sampling activities, and ensure the vessel is not in conflict with possession regulations while collecting catch data. All catch above a possession limit or below a minimum size would be discarded as soon as practicable following data collection. Exempting the vessel from the sea scallop observer program requirements would allow researchers flexibility for catch sampling timing and space accommodations since vessels in the LAGC fleet are typically smaller with limited deck space.

All research trips would otherwise be conducted in a manner consistent with normal commercial fishing conditions and catch consistent with the LAGC daily possession limit would be retained for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 31, 2016.
Alan D. Risenhoover,
Director, Office of Sustainable Fisheries, National Marine Fisheries Service.

[FR Doc. 2016-07740 Filed 4-4-16; 8:45 am]

BILLING CODE 3510-22-P